DEPARTMENT OF TRANSPORTATION

Federal Transit Administration

Federal Highway Administration

Designation of Transportation Management Areas

AGENCIES: Federal Transit Administration (FTA), Federal Highway Administration (FHWA), DOT.

ACTION: Notice of designation.

SUMMARY: The Federal Transit Administration (FTA) and the Federal Highway Administration (FHWA) are announcing that all urbanized areas (UZAs) with populations greater than 200,000 as determined by the 2010 Census are hereby designated as Transportation Management Areas (TMAs). The FTA and FHWA are taking this action in compliance with the agencies' authorizing statutes, 23 U.S.C. 134, and 49 U.S.C. 5303. This action supersedes the agencies' designations of TMAs made in the Federal Register on July 8, 2002, at 67 FR 45173.

DATES: Effective Date: July 18, 2012.

FOR FURTHER INFORMATION CONTACT: For FTA related questions, Charles Goodman, Office of Systems Planning (TPE-10), (202) 366-1944, email: Charles.Goodman@dot.gov, or Dana Nifosi, Office of Chief Counsel (TCC), (202) 366-4011, email: Dana.nifosi@dot.gov, Federal Transit Administration, 1200 New Jersey Ave. SE., Washington, DC 20590. Office hours for the FTA are from 8:30 a.m. to 5 p.m., et., Monday through Friday, except Federal holidays.

For FHWA related questions, James Cheatham, Office of Planning (HEPP), (202) 366-0106, email: James.Cheatham@dot.gov, or Janet Myers, Office of Chief Counsel (HCC), (202) 366-2019, email: janet.myers@dot.gov, Federal Highway Administration, 1200 New Jersey Ave. SE., Washington, DC 20590. Office hours are from 8:00 a.m. to 4:30 p.m., et., Monday through Friday, except Federal holidays.

SUPPLEMENTARY INFORMATION: Titles 23 and 49 of the United States Code (23 U.S.C. 134(k)(1)(A) and 49 U.S.C. 5303(k)(1)(A)) require the Secretary of Transportation to designate urbanized areas over 200,000 population as TMAs. A number of Census Bureau defined urbanized areas across the United States have recently exceeded 200,000 in population as determined by the 2010 Census. Accordingly, this notice hereby designates such areas as TMAs. Designated TMAs are subject to special planning and programming requirements. The FTA and the FHWA have developed a series of “Questions and Answers” related to applying 2010 Census data to Urbanized and Urban areas in the joint FTA and FHWA planning processes. More information can be found at http://www.fhwa.dot.gov/planning/census_issues/ and http://www.fta.dot.gov/grants/12853_12408.html.

These requirements apply to the metropolitan planning areas that must be determined jointly by the metropolitan planning organization (MPO) and Governor, in accordance with 23 U.S.C. 134(d) and 49 U.S.C. 5303(d). Additional urbanized areas may be designated as TMAs by the Secretary of Transportation upon request of the Governor and the MPO, or affected local officials. Notification of any additional TMAs will be issued through a Secretarial Memorandum to the appropriate State Governors and MPOs, not as a notice published in the Federal Register. The UZAs with populations over 200,000, which are hereby designated as TMAs, are listed below. The Santa Barbara, California urbanized area did not meet the statutory population threshold for TMA designation, but was previously designated as a TMA at the request of the MPO and Governor. The Santa Barbara urbanized area continues to be designated as a TMA as a result of the previous request.

There have been significant changes in the urbanized areas defined by the 2010 Census from those defined by the 2000 Census. These changes include new areas, based primarily on population growth, name changes, and areas with significant boundary changes. For multistate urbanized areas over 200,000 population, the urbanized area is listed under the State with the largest share of the population. However, the TMA designation applies to the entire multistate urbanized area.

The Census Bureau defined the Census 2010 urbanized areas using the criteria published in the Federal Register on August 24, 2011 (76 FR 53030). As a result of using these definitions, there were significant changes in the Census 2010 urbanized areas from those defined based on the 2000 census and criteria. A detailed discussion of the differences in the Census Bureau criteria from 2000 to 2010 can be found at the Census Bureau's Web site. http://www.census.gov/geo/www/ua/2000_2010uadif.pdf.

Authority: 23 U.S.C. 315; 23 U.S.C. 134(k)(1)(A), 49 U.S.C. 5303(k)(1)(A), 49 CFR 1.48 and 1.51.

Issued on: May 10, 2012.
Victor M. Mendez,
Administrator.
Peter Rogoff,
Administrator, FTA.

State/urbanized area (UZA) | UZA 2010 population | Area comparison to 2000 Census TMAs; population
Alabama:
Birmingham, AL | 749,495
Mobile, AL | 326,183
Huntsville, AL | 286,692
Montgomery, AL | 263,907 | New TMA.
State Total | 1,626,277
Alaska:
Anchorage, AK | 251,243
State Total | 251,243
Arizona:
Phoenix-Mesa, AZ | 3,629,114
Tucson, AZ | 843,168
State Total | 4,472,282
Arkansas:
Little Rock, AR | 431,388
Fayetteville-Springdale-Rogers, AR-MO | 295,083 | New TMA.
State Total | 726,471
California:
Los Angeles-Long Beach-Anaheim, CA | 12,150,996 | Name Change.
San Francisco-Oakland, CA | 3,281,212
San Diego, CA | 2,956,746
Riverside-San Bernardino, CA | 1,932,666
Sacramento, CA | 1,723,634
San Jose, CA | 1,664,496
Fresno, CA | 654,628
Concord, CA | 615,968
Mission Viejo-Lake Forest-San Clemente, CA | 583,681 | Name Change.
Bakersfield, CA | 523,994
Murrieta-Temecula-Menifee, CA | 441,546
Stockton, CA | 370,583
Oxnard, CA | 367,260
Modesto, CA | 358,172
Indio-Cathedral City, CA | 345,580 | Name Change.
Lancaster-Palmdale, CA | 341,219
Victorville-Hesperia, CA | 328,454 | Name Change.
Santa Rosa, CA | 308,231
Antioch, CA | 277,634
Santa Clarita, CA | 258,653 | New TMA.
Visalia, CA | 219,454 | New TMA.
Thousand Oaks, CA | 214,811
State Total | 29,919,618
Colorado:
Denver-Aurora, CO | 2,374,203
Colorado Springs, CO | 559,409
Fort Collins, CO | 264,465
State Total | 3,198,077
Connecticut:
Hartford, CT | 924,859
Bridgeport-Stamford, CT-NY | 923,311
New Haven, CT | 562,839
Norwich-New London, CT-RI | 209,190 | New TMA.
State Total | 2,620,199
Delaware:
State Total
District of Columbia:
Washington, DC-VA-MD | 4,586,770
State Total | 4,586,770
Florida:
Miami, FL | 5,502,379
Tampa—St. Petersburg, FL | 2,441,770
Orlando, FL | 1,510,516
Jacksonville, FL | 1,065,219
Sarasota—Bradenton, FL | 643,260
Cape Coral, FL | 530,290
Palm Bay—Melbourne, FL | 452,791
Port St. Lucie, FL | 376,047
Palm Coast—Daytona Beach—Port Orange, FL | 349,064 | Name Change.
Pensacola, FL-AL | 340,067
Kissimmee, FL | 314,071 | New TMA.
Bonita Springs, FL | 310,298 | Name Change.
Lakeland, FL | 262,596 | New TMA.
Tallahassee, FL | 240,223
Winter Haven, FL | 201,289 | New TMA.
State Total | 14,539,880
Georgia:
Atlanta, GA | 4,515,419
Augusta—Richmond County, GA—SC | 386,787
Savannah, GA | 260,677
Columbus, GA—AL | 253,602
State Total | 5,416,485
Hawaii:
Urban Honolulu, HI | 802,459 | Name Change.
State Total | 802,459
Idaho:
Boise City, ID | 349,684
State Total | 349,684
Illinois:
Chicago, IL—IN | 8,608,208
Rockford, IL | 296,863
Round Lake Beach—McHenry—Grayslake, IL—WI | 290,373
Peoria, IL | 266,921
State Total | 9,462,365
Indiana:
Indianapolis, IN | 1,487,483
Fort Wayne, IN | 313,492
South Bend, IN—MI | 278,165
Evansville, IN—KY | 229,351
State Total | 2,308,491
Iowa:
Des Moines, IA | 450,070
Davenport, IA—IL | 280,051
State Total | 730,121
Kansas:
Wichita, KS | 472,870
State Total | 472,870
Kentucky:
Louisville/Jefferson County, KY—IN | 972,546 | Name Change.
Lexington—Fayette, KY | 290,263
State Total | 1,262,809
Louisiana:
New Orleans, LA | 899,703
Baton Rouge, LA | 594,309
Shreveport, LA | 298,317
Lafayette, LA | 252,720 | New TMA.
State Total | 2,045,049
Maine:
Portland, ME | 203,914 | New TMA.
State Total | 203,914
Maryland:
Baltimore | 2,203,663
Aberdeen—Bel Air South—Bel Air North, MD | 213,751 | New TMA.
State Total | 2,417,414
Massachusetts:
Boston, MA—NH—RI | 4,181,019
Springfield, MA—CT | 621,300
Worcester, MA—CT | 486,514
Barnstable Town, MA | 246,695
State Total | 5,535,528
Michigan:
Detroit, MI | 3,734,090
Grand Rapids, MI | 569,935
Flint, MI | 356,218
Lansing, MI | 313,532
Ann Arbor, MI | 306,022
Kalamazoo, MI | 209,703 | New TMA.
State Total | 5,489,500
Minnesota:
Minneapolis—St. Paul, MN—WI | 2,650,890 | Name Change.
State Total | 2,650,890
Mississippi:
Jackson, MS | 351,478
Gulfport, MS | 208,948 | Name Change.
State Total | 560,426
Missouri:
St. Louis, MO—IL | 2,150,706
Kansas City, MO—KS | 1,519,417
Springfield, MO | 273,724
State Total | 3,943,847
Montana:
State Total
Nebraska:
Omaha, NE—IA | 725,008
Lincoln, NE | 258,719
State Total | 983,727
Nevada:
Las Vegas—Henderson, NV | 1,886,011 | Name Change.
Reno, NV—CA | 392,141 | Name Change.
State Total | 2,278,152
New Hampshire:
Nashua, NH—MA | 226,400 | New TMA.
State Total | 226,400
New Jersey:
Atlantic City, NJ | 248,402
Trenton, NJ | 296,668
State Total | 545,070
New Mexico:
Albuquerque, NM | 741,318
State Total | 741,318
New York:
New York—Newark, NY—NJ—CT | 18,351,295
Buffalo, NY | 935,906
Rochester, NY | 720,572
Albany—Schenectady, NY | 594,962 | Name Change.
Poughkeepsie—Newburgh, NY—NJ | 423,566 | Name Change.
Syracuse, NY | 412,317
State Total | 21,438,618
North Carolina:
Charlotte, NC—SC | 1,249,442
Raleigh, NC | 884,891
Winston-Salem, NC | 391,024
Durham, NC | 347,602
Greensboro, NC | 311,810
Fayetteville, NC | 310,282
Asheville, NC | 280,648
Wilmington, NC | 219,957 | New TMA.
Concord, NC | 214,881 | New TMA.
Hickory, NC | 212,195 | New TMA.
State Total | 4,422,732
North Dakota:
State Total
Ohio:
Cleveland, OH | 1,780,673
Cincinnati, OH—KY—IN | 1,624,827
Columbus, OH | 1,368,035
Dayton, OH | 724,091
Akron, OH | 569,499
Toledo, OH—MI | 507,643
Youngstown, OH—PA | 387,550
Canton, OH | 279,245
State Total | 7,241,563
Oklahoma:
Oklahoma City, OK | 861,505
Tulsa, OK | 655,479
State Total | 1,516,984
Oregon:
Portland, OR—WA | 1,849,898
Eugene, OR | 247,421
Salem, OR | 236,632
State Total | 2,333,951
Pennsylvania:
Philadelphia, PA—NJ—DE—MD | 5,441,567
Pittsburgh, PA | 1,733,853
Allentown, PA—NJ | 664,651 | Name Change.
Harrisburg, PA | 444,474
Lancaster, PA | 402,004
Scranton, PA | 381,502
Reading, PA | 266,254
York, PA | 232,045 | New TMA.
State Total: | 9,566,350
Rhode Island
Providence, RI—MA | 1,190,956
State Total | 1,190,956
South Carolina:
Columbia, SC | 549,777
Charleston—North Charleston, SC | 548,404
Greenville, SC | 400,492
Myrtle Beach—Socastee, SC—NC | 215,304 | New TMA.
State Total | 1,713,977
South Dakota:
State Total
Tennessee:
Memphis, TN—MS—AR | 1,060,061
Nashville-Davidson, TN | 969,587
Knoxville, TN | 558,696
Chattanooga, TN—GA | 381,112
State Total | 2,969,456
Texas:
Dallas—Fort Worth—Arlington, TX | 5,121,892
Houston, TX | 4,944,332
San Antonio, TX | 1,758,210
Austin, TX | 1,362,416
El Paso, TX—NM | 803,086 | Name Change.
McAllen, TX | 728,825
Denton—Lewisville, TX | 366,174
Corpus Christi, TX | 320,069
Conroe—The Woodlands, TX | 239,938 | New TMA.
Lubbock, TX | 237,356
Laredo, TX | 235,730 | New TMA.
Killeen, TX | 217,630 | New TMA.
Brownsville, TX | 217,585 | New TMA.
State Total | 16,553,243
Utah:
Salt Lake City—West Valley City, UT | 1,021,243 | Name Change.
Ogden—Layton, UT | 546,026
Provo—Orem, UT | 482,819
State Total | 2,050,088
Vermont:
State Total
Virginia:
Virginia Beach, VA | 1,439,666
Richmond, VA | 953,556
Roanoke, VA | 210,111 | New TMA.
State Total | 2,603,333
Washington:
Seattle, WA | 3,059,393
Spokane, WA | 387,847 | Name Change.
Kennewick—Pasco, WA | 210,975 | New TMA.
State Total | 3,658,215
West Virginia:
Huntington, WV—KY—OH | 202,637 | New TMA.
State Total | 202,637
Wisconsin:
Milwaukee, WI | 1,376,476
Madison, WI | 401,661
Appleton, WI | 216,154 | New TMA.
Green Bay, WI | 206,520 | New TMA.
State Total | 2,200,811
Wyoming:
State Total
Puerto Rico:
San Juan, PR | 2,148,346
Aguadilla—Isabela—San Sebastian, PR | 306,196
State Total | 2,454,542

[FR Doc. 2012-17514 Filed 7-17-12; 8:45 am]

BILLING CODE 4910-22-P